ENVIRONMENTAL PROTECTION AGENCY

40 CFR Part 52

[EPA-R05-OAR-2016-0272; FRL-9964-46-Region 5]

Air Plan Approval; Ohio; Control of Emissions of Organic Materials That Are Not Regulated by VOC RACT Rules

AGENCY: Environmental Protection Agency (EPA).

ACTION: Direct final rule.

SUMMARY: The Environmental Protection Agency (EPA) is approving, under the Clean Air Act (CAA), revisions to the Ohio Administrative Code (OAC) rule as part of Ohio's State Implementation Plan (SIP). This rule has generally been revised to: make minor style changes to meet Ohio's legislative service commission style and formatting guidelines; add specific effective dates within the rule; correct certain errors and omissions introduced when the rule was last revised; remove facilities and units that have been permanently shut down; update the names of certain subject facilities; and modify certain source applicability exclusions. Sources controlled by this rule are not covered by existing Volatile Organic Compound (VOC) Reasonably Available Control Technology (RACT) rules or other organic material emission control rules in Ohio's Administrative Code.

DATES: This direct final rule is effective September 11, 2017, unless EPA receives adverse comments by August 10, 2017. If adverse comments are received by EPA, EPA will publish a timely withdrawal of the direct final rule in the Federal Register informing the public that the rule will not take effect.

ADDRESSES: Submit your comments, identified by Docket ID No. EPA-R05-OAR-2016-0272, at https://www.regulations.gov, or via email to Aburano.Douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit https://www2.epa.gov/dockets/commenting-epa-dockets.

FOR FURTHER INFORMATION CONTACT: Kathleen D'Agostino, Environmental Engineer, Attainment Planning and Maintenance Section, Air Programs Branch (AR-18J), U.S. Environmental Protection Agency, Region 5, 77 West Jackson Boulevard, Chicago, Illinois 60604, (312) 886-1767, Dagostino.Kathleen@epa.gov.

SUPPLEMENTARY INFORMATION: Throughout this document, whenever “we,” “us,” or “our” is used, we mean EPA. This supplementary information section is arranged as follows:

I. What revisions has Ohio made in rule 3745-21-07 and are they approvable as a revision of the Ohio SIP?

II. What action is EPA taking?

III. Incorporation by Reference

IV. Statutory and Executive Order Reviews

I. What revisions has Ohio made in rule 3745-21-07 and are they approvable as a revision of the Ohio SIP?

The rule at OAC 3745-21-07 was adopted by the state of Ohio to control airborne emissions of organic materials from existing (as of the effective date of the adopted rule) sources not covered by other VOC emission control rules in OAC 3745-21. Most recently, EPA approved revisions to OAC 3745-21-07 into the Ohio SIP on August 19, 2011 (76 FR 51901).

On April 29, 2016, the Ohio Environmental Protection Agency (OEPA) submitted an amended OAC 3745-21-07, requesting that EPA approve the rule amendments as a revision to the Ohio SIP. The following summarizes the rule revisions and discusses whether these rule revisions are approvable as SIP revisions.

Where we note “this rule” or “the rule,” unless otherwise noted, we mean OAC 3745-21-07.

3745-21-07

The title of the rule has been revised to “Control of emissions of organic materials from stationary sources (i.e., emissions that are not regulated by rule 3745—21-09, 3745-21-12 to 3745-21-16, or 3745-21-18 to 3745-21-29 of the Administrative Code.” This title change accounts for the addition of VOC emission control rules that now cover some of the sources formerly covered by OAC 3745-21-07.

(A) Applicability:

(A)(1)—“RESERVED” modified to “Reserved.”

(A)(2)—“RESERVED” modified to “Reserved.”

(A)(3) — This paragraphs states that OAC 3745-21-07 applies to any source or operation for which installation commenced prior to February 18, 2008, and that is specified in paragraphs (K) through (N) of this rule. This rule does not apply to VOC emissions from sources or operations subject to rules 3745-21-09, 3745-21-12 to 3745-21-16, or 3745-21-18 to 3745-21-29. Any owner or operator of a source or operation identified in paragraphs (K) to (N) of this rule must have complied with the facility-specific and general emission control requirements of this rule by February 18, 2008. This paragraph was revised to reflect that new VOC emission control rules now cover some of the sources formerly covered by OAC 3745-21-07.

The other rule revision in this paragraph replaces what was previously “the effective date of this rule” by a specific date, February 18, 2008. February 18, 2008, was the effective date of the previous version of this rule; therefore, specifying this date retains and clarifies the date used to define the group of sources or operations subject to the requirements of this rule and the date by which subject emission control requirements must be implemented.

(A)(4)—This paragraph voids emission control requirements or operational restrictions contained in a permit-to-install, permit-by rule, permit-to-operate, or Title V permit if the requirements refer to photochemically reactive materials or the need to determine or document materials as being photochemically reactive materials or any recordkeeping and reporting requirements related to photochemically reactive materials. The revisions to this rule paragraph include the replacement of “the effective date of this rule” with the date February 18, 2008, grammatical corrections, and the addition of rule paragraph (N)(3) the list of emission limitations and control requirements in paragraph (A)(4). The list should include all paragraphs that contain an emission limitation or control requirement, but paragraph (N)(3) was inadvertently left out when Ohio last revised the rule.

(A)(5)—This paragraph states that this rule shall not apply to any source, including any new source, as defined in rule OAC 3745-15-01, for which installation commenced after “February 18, 2008,” revised from “the effective date of this rule.”

(A)(6)—This paragraph lists the emission test methods or emission data sources that may be used to demonstrate compliance for sources subject to mass emission rates under the rule. This rule paragraph has been revised to clarify that the owner or operator of a subject source or operation may demonstrate compliance using one of the three compliance methods listed.

(B)-(J)—“RESERVED” modified to “Reserved” for all of these rule paragraphs.

(K) Facility-specific control requirements for storage tanks (stationary tank, reservoir, or other container):

(K)(1)—This paragraph lists source facility owners or operators, source facility IDs, and source emission unit IDs for emission units subject to the emission control requirements in paragraph (K)(2), which requires that the storage tanks containing any liquid organic material that has a vapor pressure of 1.5 pounds per square inch or greater, under actual storage conditions, be equipped with one of the following: (a) A floating pontoon or double-deck type cover that includes closure seals (not permitted if the liquid in the tank has a vapor pressure of 12.5 pounds per square inch absolute or greater under actual storage conditions); or (b) a vapor recovery system or control system that reduces the emissions of organic compounds by at least 90 percent by weight.

The owner or operator names in the table of facilities and emissions units subject to the requirements of paragraph (K)(2) have been revised as noted here: “The Glidden Company” has been revised to “Akzo Nobel Coatings, Inc.;” a subject emissions unit associated with Azko Nobel Coatings, “T066,” has been removed due to permanent shutdown; and “Marathon Ashland Petroleum, LLC” has been revised to “Marathon Petroleum Company LP—Brecksville Terminal.”

(K)(3)—This paragraph lists source facility owners or operators, source facility IDs, and source emission unit IDs for emission units consisting of storage tanks with capacities equal to or less than 65,000 gallons, subject to the control requirements in paragraph (K)(4), which requires subject sources to not place, store, or hold in any storage tank identified in (K)(3) any liquid organic material that has a vapor pressure of 1.5 pounds per square inch absolute or greater, under actual storage conditions, unless the storage tank is equipped with a permanent submerged fill pipe, or is loaded through the use of a portable loading tube, which can be inserted below the liquid level during loading operations, or is fitted with a vapor recovery system as described in paragraph (K)(2)(b) of this rule.

Rule paragraph (K)(3) has been amended to remove the following sources previously subject to the requirements of (K)(4) due to permanent shutdown: Newark Air Force Base/AGMC (source facility 0145020224, source units T012 and T013); the Lubrizol Corporation, Wickliffe Facility (source facility 0243150025, source units T224 and T225); Veolia Environmental Services, LLC (source facility 0857751346, source units P006, T001, T005, T007, T017, T026, T040, T042, T044, T049, T051, T065, and T068); Clorox Company (source facility 1318000864, source unit T012); and Strongsville Expressmart (source facility 1318554294, source unit T008). For “Hukill Chemical Corporation” (source facility 1318030172), emissions unit T062 has been removed due to permanent shutdown. The following subject owner/operator names have been revised: “Tremco, Inc.” has been revised to “Tremco, Inc.—Mameco Division”; “Marathon Ashland Petroleum Corporation” has been revised to “Marathon Petroleum Company LP—Brecksville Terminal”; and “Glastic Corporation, Cleveland Facility” has been revised to “Rochling Glastic Composites”.

(L) Facility-specific control requirements for oil-water separators (effluent water separators):

(L)(1)—The owner/operator name of the only subject facility listed has been revised from “Marathon Ashland Petroleum, LLC” to “Marathon Ashland, LLC—CLOW”.

(M) Facility-specific and general control requirements for emissions from operations using liquid organic materials:

Table “(M)(1) Emissions Units” under paragraph (M)(1) lists owners/operators, source facility IDs, and emission units subject to the emission control requirements of paragraph (M)(2). Table (M)(1) has been revised as follows:

a. The following owners/operators and their associated source facilities and emission units have been removed from the list of applicable sources due to permanent shutdown: TS Trim Industries, Incorporated; Plastech Engineered Products, Incorporated (two facilities); Clean Harbors PPM, LLC; Structural North America; PFF/MFD/STD of Avery Dennison; GE Quartz, Incorporated, Willoughby Plant; Cantar/Polyair Corporation; Roemer Industries, Incorporated; Peerless—Winsmith, Incorporated; Eaton INOAC, Company; Manufacturers Enameling Corporation; Mill's Pride, Incorporated; Delphi Chassis Systems, Needmore Operations; Delphi Classic Systems, Home Avenue; Pitney Bowes; Veolia Environmental Services, LLC; The Chemical Solvents, Incorporated; Queen City Barrel Company; Owens Corning Trumbull; Alex Fries and Bros., Incorporated; and Blackhawk Automotive Plastics, Incorporated.

b. The following owner/operator names were revised with no other revisions to the applicable source facility IDs or source units: “Akzo Nobel” has been revised to “Akzo Nobel Coatings, Inc.;” “Kraftmaid Cabinetry, Inc., Middlefield #1” has been revised to “Masco Cabinetry Middlefield LLC (KraftMaid Plant #1);” “Chem Development” has been revised to “The Kennedy Group;” “LESCO, Inc.” has been revised to “Turf Care Supply Corp.—Martins Ferry Plant;” “Merillat Industries, Inc.” has been revised to “Masco Cabinetry, Merillat, Jackson;” “CDR Pigments and Dispersions” has been revised to “Flint Group Pigments; and “Emerald Polymer Additives” has been revised to “Emerald Performance Materials LLC.”

c. The following subject sources have been removed because they were erroneously included in table (M)(1) when the rule was last revised: ¹ Waste Technologies Industries, Incorporated (facility ID 0215020233); ² Troy Laminating and Coating, Incorporated (facility ID 0855140077); and, emissions units P008 and P009 at Thermoseal, Incorporated (facility ID 0575010161) ³ (in addition, emissions units P001-P005 and P011-P012 have been removed due to permanent shutdown);

¹ When the rule was last revised, table (M)(1) was established to list emission units covered by the prior SIP-approved version of 3745-21-07. Emissions control was not required for units emitting less than 8 lbs/hr and 40 lbs/day. Because the potential emissions from the subject units are below this level, these units should not have been listed in table (M)(1).

² Regardless of the applicability of OAC 3745-21-07, these tanks will continue to be controlled through 40 CFR 61, subpart FF (National Emissions Standard for Benzene Waste Operations) and 40 CFR 63, subpart DD (National Emissions Standard for Hazardous Air Pollutants from Off-Site Waste and Recovery Operations).

³ Regardless of the applicability of OAC 3745-21-07, emission units P009, P010, and P014 at Troy Laminating and Coating and P008 and P009 at Thermoseal will continue to be controlled through best available technology pursuant to SIP-approved rule OAC 3745-31-05.

d. The entries for the following subject sources have been revised as described:

1. “Safety Kleen Corp.—Hebron Recycle Center” has been revised to “Clean Harbors Recycling Services of Ohio L.L.C.,” emission unit P002 has been removed due to permanent shutdown, and the facility ID (0145020235) remains unchanged;

2. Iten Industries, Incorporated, Plant 1 (facility ID 0204010112) has been removed because the only subject emissions unit (P003) does not meet the applicability requirements set forth in paragraph (M)(3);

3. Pinney Deck and Transport Company (facility ID 0204010172) has been removed because the source was erroneously included in table (M)(1) since the only subject emissions unit (P001), an air stripper for treating contaminated ground water, is the actual process and is not considered emissions control and should not have been listed in the rule;

4. “Ohio Sealants” has been revised to “Henkel Consumer Adhesives, Inc.,” emission unit P003 has been removed due to permanent shut down, and the facility ID (0243081155) remains unchanged;

5. “Noveen, Inc.” has been revised to “Lubrizol Advanced Materials,” emission units P020 and P026 have been removed due to shut down, and the facility ID (0247030004) remains unchanged;

6. Degussa Initiators, LLC has been removed because the subject units do not use photochemically reactive materials;

7. “The Glidden Company” has been revised to “Akzo Nobel Coatings, Inc.,” emission units P007 and P008 have been removed due to permanent shutdown, and the facility ID (0322000043) remains unchanged;

8. Guardian Manufacturing (facility ID 0339030016): Emission unit IDs P001, P002, and P004 have been renamed as P801, P802, and P804;

9. Union Tank Car Company (facility ID 0351010025) has been removed because its subject emissions unit, P002, does not employ a liquid organic material, which is a criterion for rule applicability;

10. BASF Corporation (facility ID 0819070134): Emission unit P011 has been removed because it is now part of P028 (which is listed);

11. Greenville Technologies, Inc. (facility ID 0819070190): Emission units K001, K002, K003, and K005 have been removed due to permanent shutdown;

12. Dupont Electronic Polymers, LP (facility ID 0857040727): For emission units P025 and P027, the applicability of paragraph (M)(2) has been restricted to when these units are in methylene chloride service (which is acceptable because emissions under non-methylene chloride operations are less than eight pounds per hour, which is lower than the applicability cut point in the original rule);

13. “Eurand” has been revised to “Aptalis Pharmatech, Inc.,” emission unit P013 has been removed due to permanent shutdown, and the facility ID (0857171794) remains unchanged;

14. Neaton Auto Products Manufacturing, Inc. (facility ID 08680300155): Emission unit R003 has been added because it was installed in 2007 and inadvertently omitted from the previous rule revision;

15. Rohm and Haas Chemicals, LLC (facility ID 0868090072): Emission unit P508 has been removed due to permanent shutdown.

16. Day-Glo Color Corp. (facility ID 1318006552): Emission units P001, P002, P008, P009, P024, P026, P027, and P030 have been added; ⁴

⁴ On January 22, 2015 the facility submitted a notification to Ohio EPA indicating that these emissions units should be added to paragraph (M)(1) as required by paragraph (M)(3)(b).

17. “Polymers Additives” with facility ID 1318030264 and emission units P027 and P034 has been added; ⁵

⁵ On January 22, 2015 the facility submitted a notification to Ohio EPA indicating that these emissions units should be added to paragraph (M)(1) as required by paragraph (M)(3)(b).

18. “Ineos ABS Corporation” has been revised to “Ineos ABS (USA) Corporation,” emission unit P021 has been removed because it was mistakenly included in the prior revision to this rule,⁶ emission units P010 and P036 have been added because these continuous polymer drying operation emissions units were inadvertently left out of the prior revision to this rule, and the facility ID (1431010054) remains unchanged;

⁶ The potential organic compound emissions for emissions unit P021 are less than 8 lbs/hr and 40 lbs/day, therefore, emissions control is not required.

19. H.B. Fuller Company (facility ID 1431052206): Emission units P003-P006 have been removed due to permanent shutdown;

20. “Ruetgers Organics Corporation” has been revised to “Nease Corporation,” emission unit P025 has been removed due to permanent shutdown; and facility ID (1431111828) remains unchanged;

21. PMC Specialties, Inc. (facility ID 141390137): Emission unit P022 has been removed due to permanent shutdown;

22. St. Bernard Soap Company has been removed because the subject emission units at this source never employed any photochemically reactive materials and thus should never have been included in the rule; and,

23. “PPB Industries, Barberton Plant” has been split into two separate facilities, “PPG Industries, South Plant” (with facility ID 1677020162 and unit P099) and “PPG Industries, Teslin Plant” (with facility ID 1677020164 and units P110, P114, and P115 ⁷), and emission unit P098 has been removed because it is exempt from the rule.⁸

⁷ Emissions unit P115 was installed in November 2007 and inadvertently left out of the prior revision of this rule.

⁸ This emissions unit is exempt from the requirements of paragraphs (M)(3)(a), (M)(2) and (M)(1) per paragraph (M)(3)(c)(iv), which exempts an emissions unit that is subject to and complying with a federal regulation that specifies an overall control efficiency for organic compound or VOC emissions that is greater than eighty-five percent, by weight. This emissions unit is subject to 40 CFR part 63, subpart FFFF, which requires total organic HAP emissions to be reduced by at least 98% by weight or to an outlet concentration of 20 ppmv or less.

(M)(2)—This paragraph requires each article, machine, equipment or other contrivance identified in paragraph (M)(1) or meeting paragraph (M)(3)(a) of the subject rule (3745-21-07) to be equipped with a control system that reduces the organic compound emissions from the source by an overall control efficiency of at least 85 percent, by weight. If the emission reductions are achieved by incineration, the incineration must oxidate the carbon in the captured organic material to carbon dioxide by 90 percent or more. Paragraph (M)(2) has been edited to revise the phrase “meeting the specifications of paragraph (M)(3)(a)” to “meeting paragraph (M)(3)(a).”

(M)(3)—This paragraph covers other operations using liquid organic materials.

(M)(3)(a)—This paragraph lists nine conditions in (M)(3)(a)(i) to (M)(3)(a)(ix). Any article, machine, equipment or contrivance meeting all of these conditions must comply with the emission control requirements in (M)(2).

(M)(3)(a)(ii)—This paragraph has been revised from “Commenced installation prior to the effective date of the rule” to “Commenced installation prior to February 18, 2008.”

(M)(3)(a)(v)—This paragraph states that emissions are not subject to (M)(2) if they are subject to control requirements specified in other listed rules. The list of rules has been simplified and expanded by revising from “3745-21-09, 3745-12, 3745-13, 3745-14, 3745-15, 3745-16, or 3745-21-18” to “3745-21-09, 3745-12 to 3745-16, or 3745-21-18 to 3745-21-29.” This is acceptable because the emissions subject to the additional rules listed are being controlled under those rules.

(M)(3)(a)(ix)—This paragraph, which excludes fuel burning equipment as defined in rule 3745-17-01, has been revised to remove the identification of the specific paragraph under 3745-17-01 that contains the definition of fuel burning equipment.

(M)(3)(b)—This paragraph requires the owner/operator of a source meeting the conditions of this paragraph to notify OEPA of the need to include the subject owner/operator, facility ID, and source ID in the list of applicable sources under paragraph (M)(1). Paragraph (M)(3)(b) has been revised to include the following revisions: (1) “meeting the specifications of paragraph (M)(3)(a) of this rule” has been revised to “meeting paragraph (M)(3)(a) of this rule”; (2) “Ohio environmental protection agency” has been revised to “Ohio EPA”; and (3) the time limit for notifying OEPA has been revised from “within ninety days after the effective date of this rule” to “by May 18, 2008.” This corresponds with the revision in language elsewhere in the rule from “the effective date of this rule” to “February 18, 2008.”

(M)(3)(c)—This paragraph states that any article, equipment, or other contrivance that meets any of the conditions of this paragraph shall not be subject to the conditions and requirements of paragraphs (M)(3)(a) and (M)(3)(b). Paragraph (M)(3)(c) has been revised to convert “subject to the requirements of paragraphs (M)(3)(a) and (M)(3)(b)” to “subject to paragraphs (M)(3)(a) and (M)(3)(b).”

(M)(3)(c)(i)—This paragraph provides a source installation time cutoff, which has been revised from “commenced installation after the effective date of this rule” to “commenced installation after February 18, 2008.”

(M)(3)(c)(vi)—This paragraph exempts a heatset web offset printing line that is subject to and complying with a best available technology requirement pursuant to rule 3745-31-05, and that specifies the dryer(s) is to be equipped with a control device having either a control efficiency for organic compound or volatile organic compound emissions that is equal to or greater than 90 percent, by weight, or an outlet concentration of less than 20 parts per million, by volume, dry basis. This condition has been revised to replace “dryer(s)” with “dryer.”

(M)(3)(d)—This paragraph exempts specified articles, machines, equipment or other contrivances from the requirements of paragraphs (M)(3)(a) and (M)(3)(b). The beginning of this paragraph has been modified by the conversion of the phrase “subject to the requirements of paragraphs (M)(3)(a) and (M)(3)(b)” to the phrase “subject to paragraphs (M)(3)(a) and (M)(3)(b).”

(M)(3)(d)(i)—This paragraph exempts emission units identified in the remaining paragraphs in (M)(3)(d) that obtain an alternative emission limit or emission control requirement pursuant to paragraph (M)(5)(e). Paragraph (M)(3)(d)(x) has been deleted to correct an apparent typographical error.

(M)(3)(d)(iii)—The owner/operator listed in this paragraph has been revised from “The Nylonge Corporation” to “3M Elyria” and to remove emissions unit P005 due to permanent shutdown.

(M)(3)(d)(v)—This paragraph has been modified by the conversion of the phrase “to the levels specified” to the phrase “as specified.”

(M)(3)(d)(vi)—The owner/operator listed in this paragraph has been revised from “Honda Marysville Auto Plant” to “Honda of America Mfg., Inc., Marysville Auto Plant” and the subject facility ID has been revised from “0180000130” to “0180010193.”

(M)(3)(d)(vii) and (M)(3)(d)(viii)—These paragraphs have been removed due to the permanent shutdown of “Honda Anna Engine Plant” and “Florida Production Engineering.”

(M)(3)(d)(ix)—The owner/operator listed in this paragraph has been revised from “PPG Industries, Barberton Plant” to “PPG Industries, North Plant” and the subject facility ID has been revised from “1677020009” to “1677020163”.

(M)(3)(e)—This paragraph controls VOC emissions from the application of adhesives or other coatings at flock lines at the Cooper Standard Automotive, LLC facility in Bowling Green. This rule paragraph contains the following rule revisions: (1) Flock line 1 has been removed due to permanent shutdown and (2) the emissions units for flock lines 2, 3, and 4 have been renumbered to “P078, P079, and P080 in accordance with permit-to-install P0111501.”

(M)(3)(f)—This paragraph, which controlled the VOC emissions from a windshield glass system coating operation at the “GMC Truck and Bus Group Moraine” facility, has been deleted due to permanent shutdown of the facility.

(M)(3)(g)—This paragraph, except as provided in paragraphs (M)(3)(h) and (M)(5), applies to all existing sources located in a “Priority I” county, as identified in rule 3745-21-06 of the Ohio Administrative Code and to new sources, as defined in rule 3745-15-01 of the Ohio Administrative Code, regardless of location, for which installation commenced prior to the effective date this rule. This rule paragraph has been revised to replace “the effective date of this rule” with “February 18, 2008.”

(M)(3)(h)—This paragraph applied to emissions unit P027 at Venture Holdings Corporation—Conneaut Facility (currently known as Continental Structural Plastics, facility ID 0204020245). This paragraph was removed because the emissions unit is exempt from this rule per OAC rule 3745-21-25(A)(3), which states that “upon achieving compliance with this rule, the reinforced plastic composites production operations at the facility are not required to meet the requirements of rule 3745-21-07 of the Administrative Code.”

(M)(4)—This paragraph, except as provided in paragraph (M)(5) of this rule, applies to all existing sources in a “Priority I” county, as identified in rule 3745-21-06 of the Ohio Administrative Code, and to all new sources, as defined in rule 3745-15-01, regardless as location, for which installation commenced prior to the effective date of this rule. This rule paragraph has been revised to replace “the effective date of this rule” with “February 18, 2008.”

(M)(5) Exemptions.

(M)(5)(a)—This paragraph states that paragraph (M)(2) shall not apply to the use of any cleanup material in any article, machine, equipment or other contrivance described in paragraph (M)(2). This rule paragraph has been modified by the conversion of the phrase “The provisions of paragraph (M)(2)” to the phrase “Paragraph (M)(2).”

(M)(5)(b)—This paragraph states that paragraphs (M)(2), (M)(3)(a), and (M)(4) shall not apply for material used in sources described in paragraphs (M)(2), (M)(3)(a), and (M)(4) if the emission is not a VOC. This paragraph has been modified by the conversion of the phrase “The provisions of paragraph” to “Paragraph.”

(M)(5)(c)—The beginning of this paragraph has been modified by the conversion of the phrase “The provisions of paragraph” to “Paragraph.”

(M)(5)(d)—The beginning of this paragraph been modified by the conversion of the phrase “The provisions of paragraph” to “Paragraphs.” This paragraph contains two exemptions [(M)(5)(d)(i) and (ii)] based on the use of low VOC content material. Originally these exemptions only applied to paragraph (M)(4). Paragraph (M)(5)(d) now also applies these exemptions to paragraphs (M)(1), (M)(2), and (M)(3)(a). These exemptions were provided for in a previous SIP-approved version of the rule but were erroneously omitted in the last rule revision. In addition, the beginning of both paragraphs (M)(5)(d)(i) and (M)(5)(d)(ii) have been revised by converting the phrase “The volatile content of the material described in paragraph (M)(4)” to the phrase “The volatile content of the material used in any article, machine, equipment, or other contrivance described in paragraph (M)(1), (M)(2), (M)(3)(a) or (M)(4).”

Note that recordkeeping provisions for these exemptions were also added in new paragraph (M)(5)(j) to allow subject emissions units to switch between exempt and non-exempt liquid organic materials with respect to paragraph (M)(5)(d).

(M)(5)(e)—The beginning of this paragraph has been modified by the conversion of the phrase “The provisions of paragraphs” to the phrase “Paragraphs.” This rule paragraph exempts sources from the emission controls in rule paragraphs (M)(2), (M)(3)(d), (M)(3)(e), (M)(3)(f), (M)(3)(g), (M)(3)(h), and (M)(4) if the conditions contained in (M)(5)(e)(i), (ii), and (iii) are met.

(M)(5)(e)(i)—This condition deals with a situation where best available control technology is less stringent than or inconsistent with the emission control requirements in rule paragraph (M). A number of revisions have been made in this condition, and the revised condition now reads as:

The director has determined that requirements equivalent to best available technology for the article, machine, equipment or other contrivance is a control requirement or emission limitation that is either less stringent than or inconsistent with paragraph (M) of this rule. The equivalent best available technology requirement shall be consistent with division (F) of section 3704.01 of the Revised Code, equivalent to best available technology under rule 3745-31-05 of the Administrative Code for the purpose of this paragraph, shall provide, where a control requirement or emission limitation is applicable, the lowest emission limitation that the article, machine, equipment or other contrivance is capable of meeting by the application of control that is reasonably available considering technological and economic feasibility. Also, for article, machine, equipment or other contrivance located within an ozone nonattainment area, the best available technology determination must comply with Section 193 of the Clean Air Act amendments of 1990, general savings clause.

This revision allows sources constructed before 1976 that do not trigger the applicability of OAC rule 375-31-05, to voluntarily accept best available technology requirements equivalent to those contained 375-31-05 and thus qualify for the same exemption that subject sources can obtain.

(M)(5)(e)(ii)—This condition applies when EPA has notified OEPA in writing, prior to the issuance of a final permit-to-install, that EPA has no objection to the issuance of the permit. In this paragraph “Ohio environmental protection agency” has been revised to “Ohio EPA;” and,

(M)(5)(e)(iii)—This condition applies where a final permit-to-install has been issued by OEPA pursuant to Chapter 3745-31 of the Administrative Code. In this paragraph, “Ohio environmental protection agency” has been revised to “Ohio EPA.”

(M)(5)(f)—This paragraph provides an exemption from paragraph (M) requirements for the use of liquid organic material whose emissions are regulated by specified emission control rules. This paragraph has been modified by the conversion of the phrase “The provisions of paragraph (M)” to the phrase “Paragraph (M).” The specified emission control rule list has been revised to include rules “3745-21-09, 3745-21-12 to 3745-21-16, or 3745-21-18 to 3745-21-29 of the Administrative Code.” This revision accounts for the addition of VOC emission control rules that now cover some of the sources formerly covered by OAC 3745-21-07.

(M)(5)(g)—This paragraph exempts sources located in Darke, Fairfield, Madison, Perry, Pickaway, Preble, or Union Counties and located within facilities having the potential to emit not more than 100 tons of organic material per year from the requirements of paragraphs (M)(3)(a), (M)(3)(b), (M)(3)(g), and (M)(4). The beginning of this paragraph has been modified by the conversion of the phrase “The provisions of paragraphs” to “Paragraphs.”

(M)(5)(h)—The beginning of this paragraph has been revised from “The provisions of paragraph” to “Paragraph.”

(M)(5)(i)—This paragraph been added: “Paragraph (M)(2) of this rule shall not apply to the use of phenolic urethane cold box resin binder system in foundry core-making and mold-making operations, provided the catalyst gas emissions are vented to a control device that is designed and operated to remove at least ninety-eight per cent by weight, of the catalyst gas emissions or maintain a maximum catalyst gas outlet concentration of one ppmv on a dry basis, whichever is less stringent. (In a phenolic urethane cold box resin binder system, sand is mixed with a two-part liquid urethane resin binder, and a catalyst gas is blown into the resin-coated sand to cause hardening.)” This exemption was contained in a previous SIP-approved version of this rule, but was erroneously omitted during the last revision.

(M)(5)(j)—This paragraph was added to require the owner or operator of an article, machine, equipment or other contrivance that is exempt per paragraph (M)(5)(d) of this rule to maintain the following records for all materials used. This addition ensures the enforceability of the rule provisions.

(M)(5)(j)(i)—The name and identification number of each liquid organic material used.

(M)(5)(j)(ii)—The composition of each material including the volatile content by volume percent of water. If exempt because of paragraph (M)(5)(d)(i) of this rule then the liquid organic material content, except water, relative to the volatile content (per cent by volume) or, if exempt because of paragraph (M)(5)(d)(ii) of this rule, the volatile content relative to the total material (per cent by volume).

(M)(5)(j)(iii)—All time periods (beginning and ending dates and time) for each material that is exempt per paragraph (M)(5)(d) of this rule.

(N) Facility-specific control requirements for waste gas flare systems:

(N)(1)—This paragraph specifies the owners/operators, facility IDs, and emission units subject to the control requirements of paragraph (N)(2). “CECOS International” (facility ID 1413000186) was removed from paragraph (N)(1) due to permanent shutdown of the facility.

(N)(3)—The owner/operator listed in this paragraph has been revised from “Aircraft Braking Systems, Corp.” to “Meggitt Aircraft Braking Systems, Corp.”.

II. What action is EPA taking?

EPA is approving, as part of Ohio's SIP, OAC rule 3745-21-07, as revised, now entitled “Control of emissions of organic materials from stationary sources (i.e., emissions that are not regulated by rule 3745-21-09, 3745-21-12 to 3745-21-16, or 3745-21-18 to 3745-21-29 of the Administrative Code.”

We are publishing this action without prior proposal because we view this as a noncontroversial amendment and anticipate no adverse comments. However, in the proposed rules section of this Federal Register publication, we are publishing a separate document that will serve as the proposal to approve the state plan if relevant adverse written comments are filed. This rule will be effective September 11, 2017 without further notice unless we receive relevant adverse written comments by August 10, 2017. If we receive such comments, we will withdraw this action before the effective date by publishing a subsequent document that will withdraw the final action. All public comments received will then be addressed in a subsequent final rule based on the proposed action. EPA will not institute a second comment period. Any parties interested in commenting on this action should do so at this time. Please note that, if EPA receives adverse comment on an amendment, paragraph, or section of this rule and if that provision may be severed from the remainder of the rule, EPA may adopt as final those provisions of the rule that are not the subject of an adverse comment. If we do not receive any comments, this action will be effective September 11, 2017.

III. Incorporation by Reference

In this rule, EPA is finalizing regulatory text that includes incorporation by reference. In accordance with requirements of 1 CFR 51.5, EPA is finalizing the incorporation by reference of the Ohio Regulations described in the proposed amendments to 40 CFR part 52 set forth below. Therefore, these materials have been approved by EPA for inclusion in the SIP, have been incorporated by reference by EPA into that plan, are fully federally enforceable under sections 110 and 113 of the CAA as of the effective date of the final rulemaking of EPA's approval, and will be incorporated by reference by the Director of the Federal Register in the next update to the SIP compilation.⁹ EPA has made, and will continue to make, these materials generally available through www.regulations.gov and/or at the EPA Region 5 Office (please contact the person identified in the FOR FURTHER INFORMATION CONTACT section of this preamble for more information).

⁹ 62 FR 27968 (May 22, 1997).

IV. Statutory and Executive Order Reviews

Under the CAA the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 11, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: June 21, 2017.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

2. In § 52.1870, the table in paragraph (c) is amended under “Chapter 3745-21 Carbon Monoxide, Ozone, Hydrocarbon Air Quality Standards, and Related Emission Requirements” by revising the entry for “3745-21-07” to read as follows:

§ 52.1870 Identification of plan.

* * * * *

(c) * * *

EPA-Approved Ohio Regulations
Ohio citation | Title/subject | Ohio effective date | EPA approval date | Notes
* * * * * * *
Chapter 3745-72 Carbon Monoxide, Ozone, Hydrocarbon Air Quality Standards, and Related Emission Requirements
* * * * * * *
3745-21-07 | Control of emissions of organic materials from stationary sources (i.e., emissions that are not regulated by rule 3745-21-09, 3745-21-12 to 3745-21-16, or 3745-21-18 to 3745-21-29 of the Administrative Code) | 4/8/2016 | 7/11/17, [insert Federal Register citation] |
* * * * * * *

* * * * *

[FR Doc. 2017-14400 Filed 7-10-17; 8:45 am]

BILLING CODE 6560-50-P